INTERNATIONAL TRADE COMMISSION

[Investigation Nos. 701-TA-388, 389, and 391 and 731-TA-817, 818, and 821 (Fourth Review)]

Cut-to-Length Carbon-Quality Steel Plate From India, Indonesia, and South Korea Determinations

On the basis of the record ¹ developed in the subject five-year reviews, the United States International Trade Commission (“Commission”) determines, pursuant to the Tariff Act of 1930 (“the Act”), that revocation of the antidumping duty and countervailing duty orders on cut-to-length carbon-quality steel plate (“CTL plate”) from India, Indonesia, and South Korea would be likely to lead to continuation or recurrence of material injury to an industry in the United States within a reasonably foreseeable time.

¹ The record is defined in § 207.2(f) of the Commission's Rules of Practice and Procedure (19 CFR 207.2(f)).

Background

The Commission instituted these reviews on February 1, 2023 (88 FR 6781) and determined on May 8, 2023 that it would conduct expedited reviews (88 FR 37098, June 6, 2023).

The Commission made these determinations pursuant to section 751(c) of the Act (19 U.S.C. 1675(c)). It completed and filed its determinations in these reviews on August 23, 2023. The views of the Commission are contained in USITC Publication 5455 (August 2023), entitled Cut-to-Length Carbon-Quality Steel Plate from India, Indonesia, and South Korea: Investigation Nos. 701-TA-388, 389, and 391 and 731-TA-817, 818, and 821 (Fourth Review).

By order of the Commission.
Issued: August 23, 2023.
Lisa Barton,
Secretary to the Commission.

[FR Doc. 2023-18524 Filed 8-25-23; 8:45 am]

BILLING CODE 7020-02-P